DEPARTMENT OF AGRICULTURE

Forest Service

Information Collection; National Forest Recreation Use

AGENCY: Forest Service, USDA.

ACTION: Notice; request for comment.

SUMMARY: In accordance with the Paperwork Reduction Act of 1995, the Forest Service announces its intent to extend a previously approved information collection. The information collection is composed of two forms. The Forest Service uses these forms to estimate the amount and type of recreational use that occurs on National Forest System lands, to assess customer satisfaction and agency performance in meeting customer needs, and to evaluate the economic impact and value of recreation use of National Forest System lands. The collection also will help the Forest Service meet the requirements of the Government Performance and Results Act of 1993 and the National Forest Management Act of 1976. Information will be collected from people who visit National Forest System lands for recreational activities.

DATES: Comments must be received in writing on or before October 8, 2002.

ADDRESSES: All comments should be addressed to Donald B.K. English, Research Social Scientist, Forestry Sciences Laboratory, Forest Service, USDA, 320 Green St., Athens, GA 30602, or e-mail denglish@fs.fed.us.

The public may inspect comments at the offices of Donald English, Research Work Unit SRS-4901, Forest Service, USDA, 320 Green St., Athens, GA. Visitors are encouraged to call ahead, (706) 559-4268, to facilitate entry to the building.

FOR FURTHER INFORMATION CONTACT: Donald B.K. English, Forest Service Southern Research Station, at (706) 559-4268.

SUPPLEMENTARY INFORMATION:

Background

The Government Performance and Results Act of 1993 requires that Federal agencies establish measurable goals and monitor their success at meeting those goals. Two items the Forest Service will measure are: (1) the views and satisfaction level of recreational visitors to National Forest System lands about the types and quality of recreation services the agency provides; and (2) the number of visitors who come to National Forest System lands for recreation. The agency is often asked for this kind of information from a variety of organizations that include Congressional staffs, newspapers, magazines, and recreational trade organizations.

The currently approved information collection is composed of two different survey forms that are designed to evaluate agency performance in meeting the needs of visitors to individual recreation sites. One form is used to describe the visitors, their level of satisfaction, and their evaluation of the agency's performance. The other form is required to estimate the number of visitors who use National Forests for recreation. The second collection form differs in both the sampling framework and the set of questions asked of visitors.

National Forest System land managers use the collected information to better understand their recreational visitors, to improve recreational opportunities and services, and to identify barriers that prevent the agency from meeting the recreational needs of its customers. Data from this information collection also will be considered in revisions of land and resource management plans for National Forest System lands, as required by the National Forest Management Act of 1976. The collected information will be shared with all National Forest System land managers and, upon request, with others. Results from this collection will be published in agency reports and various research journals.

Description of Information Collection

Title: Customer and Use Survey Techniques for Operations, Management, Evaluation, and Research.

OMB Number: 0596-0110.

Expiration Date of Approval: February 28, 2002.

Type of Request: Extension of a previously approved collection.

Abstract: The data from this information collection will provide the agency with information about the characteristics, needs, and opinions of recreation visitors to selected recreation sites on Forest Service and other public agency lands.

Agency personnel, contract personnel, and volunteers, trained in conducting face-to-face interviews, will contact people who are visiting public lands for recreational purposes. Survey questions will focus on how well the agency meets visitors' expectations for recreational opportunities, their satisfaction with the recreational site of their choice, and if they have concerns regarding the agency's management of the site.

Agency land managers will use the collected information to better understand their recreational customers, to improve recreational opportunities and services, and to identify barriers that prevent the agency from meeting the recreational needs of its customers.

The collected information will be shared with agency land managers and upon request, with others.

Data gathered in this collection is not available from other sources.

Estimate of Burden: 10 minutes.

Type of Respondents: People who visit National Forest System land for recreational purposes.

Estimated Number of Respondents: 6,000.

Estimated Number of Responses per Respondent: 1.

Estimated Total Annual Burden on Respondents: 1,000 hours.

Description of Information Collection

Title: National Forest Visitor Use Monitoring.

OMB Number: 0596-0110.

Expiration Date of Approval: February 28, 2002.

Type of Request: Extension of a previously approved collection.

Abstract: Data from this information collection is used to estimate the numbers of recreational visitors to National Forests and Grasslands, and associated Wilderness, as well as the types of activities in which these visitors participate. The data are used to identify recreational markets, defined customers served, evaluate visitor satisfaction, and estimate the economic values and impacts of recreational visits.

Respondents are asked questions about the activities in which they participate while visiting National Forest System lands, the duration of their visit, how often they visit, what types of items they have purchased during their visit, and their satisfaction with various aspects of their visit.

Forest Service personnel will interview visitors as they exit National Forest System recreational sites. Surveys will be conducted on about one-fourth of the National Forests each year, so that complete coverage of agency lands will occur over a four-year cycle. Each National Forest will retain a copy of data collected on its visitors. Results of this study will be published in agency reports and various research journals.

Data gathered in this collection is not available from other sources.

Estimate of Burden: 8 minutes.

Type of Respondents: People who visit the National Forest System lands for recreational purposes.

Estimated Number of Respondents: 60,000.

Estimated Number of Responses per Respondent: 1.

Estimated Total Annual Burden on Respondents: 8,000 hours.

Comment Is Invited

The agency invites comments on the following: (a) Whether the proposed collection of information is necessary for the stated purposes and the proper performance of the functions of the agency, including whether the information will have practical or scientific utility; (b) the accuracy of the agency's estimate of the burden of the proposed collection of information, including the validity of the methodology and assumptions used; (c) ways to enhance the quality, utility, and clarity of the information to be collected; and (d) ways to minimize the burden of the collection of information on respondents, including the use of automated, electronic, mechanical, or other technological collection techniques or other forms of information technology.

Use of Comment

All comments, including name and address when provided, will become a matter of public record. Comments received in response to this notice will be summarized and included in the request for Office of Management and Budget approval.

Dated: August 5, 2002.
Robert Lewis, Jr.,
Deputy Chief, Research & Development.

[FR Doc. 02-20219 Filed 8-8-02; 8:45 am]

BILLING CODE 3410-11-P